NUCLEAR REGULATORY COMMISSION

[Docket No. 99902069; NRC-2021-0193]

Kairos Power, LLC; Receipt of Construction Permit Application

AGENCY: Nuclear Regulatory Commission.

ACTION: Construction permit application; receipt.

SUMMARY: The U.S. Nuclear Regulatory Commission (NRC) is providing public notice of receipt and availability of an application for a construction permit from Kairos Power, LLC. The application for the construction permit was received on September 29, 2021.

DATES: October 29, 2021.

ADDRESSES: Please refer to Docket ID NRC-2021-0193 when contacting the NRC about the availability of information regarding this document. You may obtain publicly available information related to this document using any of the following methods:

• Federal Rulemaking Website: Go to https://www.regulations.gov and search for Docket ID NRC-2021-0193. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Benjamin Beasley, Office of Nuclear Reactor Regulation, U.S. Nuclear Regulatory Commission, Washington, DC 20555-0001; telephone: 301-348-5766; email: Benjamin.Beasley@nrc.gov.

SUPPLEMENTARY INFORMATION:

I. Discussion

On September 29, 2021, Kairos Power LLC filed with the NRC pursuant to Section 103 of the Atomic Energy Act, as amended, and Part 50 of title 10 of the Code of Federal Regulations (10 CFR), “Domestic Licensing of Production and Utilization Facilities,” an application for a construction permit for one test reactor located in Oak Ridge, Tennessee. The reactor is to be identified as Hermes and is a high-temperature fluoride salt-cooled design. This design utilizes solid tri-structural isotropic fuel and a molten salt coolant.

The application is available in ADAMS under Package Accession No. ML21272A375. Along with other documents, the ADAMS package includes the transmittal letter (ADAMS Accession No. ML21272A376) and the preliminary safety analysis report (ADAMS Accession No. ML21272A378). The information submitted by the applicant includes certain administrative information such as financial qualifications submitted pursuant to 10 CFR 50.33 as well as technical information submitted pursuant to 10 CFR 50.34. The environmental report will be submitted at a later date.

The NRC staff is currently undertaking its acceptance review of the application. If the application is accepted for docketing, subsequent Federal Register notices will be issued that address the acceptability of the tendered construction permit application for docketing and provisions for participation of the public in the permitting process.

Dated: October 25, 2021.
For the Nuclear Regulatory Commission.
Stewart L. Magruder,
Senior Project Manager, Advanced Reactor Licensing Branch, Division of Advanced Reactors and Non-Power Production and Utilization Facilities, Office of Nuclear Reactor Regulation.

[FR Doc. 2021-23568 Filed 10-28-21; 8:45 am]

BILLING CODE 7590-01-P